DEPARTMENT OF ENERGY

Federal Energy Regulatory Commission

[Docket No. EL13-50-000]

Welch Motel, Inc., Welch Oil, Inc., Boondocks USA Truck Stop, Bob Welch v. Midland Power Cooperative, Corn Belt Power Cooperative; Notice of Complaint

Take notice that on March 4, 2013, pursuant to section 210(h)(2)(A) 292.304 of the Public Utility Regulatory Policies Act of 1978 (PURPA) and Rule 206 of the Rules of Practice and Procedures of the Federal Energy Regulatory Commission (Commission), 18 CFR 385.206, Welch Motel, Inc., Welch Oil, Inc., Boondocks USA Truck Stop, and Bob Welch (collectively, Complainants) filed a complaint against Midland Power Cooperative (Midland) and Corn Belt Power Cooperative (collectively, Respondents) requesting that the Commission issue an order (1) Allowing the Complainants to enter into a contract to consume all of the electric energy and capacity generated by Complainant's wind turbine located at 3065 220th Street, Williams, IA 50271-7518 before drawing power from Midland, (2) require Midland to install a mechanical meter without any blockers or detents to allow parallel operation, and (3) use this mechanical meter for registering and keeping track of the KWH consumed or generated for the billing month.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Comment Date: 5:00 p.m. Eastern Time on March 25, 2013.

Dated: March 5, 2013.
Kimberly D. Bose,
Secretary.

[FR Doc. 2013-05623 Filed 3-11-13; 8:45 am]

BILLING CODE 6717-01-P